DEPARTMENT OF THE INTERIOR

Bureau of Indian Affairs

Final Programmatic Environmental Impact Statement for the Proposed Navajo Ten-Year Forest Management Plan, Navajo Nation, Arizona/New Mexico

AGENCY: Bureau of Indian Affairs, Interior.

ACTION: Notice.

SUMMARY: The Bureau of Indian Affairs (BIA) intends to file a Final Programmatic Environmental Impact Statement (FPEIS) for the proposed Navajo Nation Ten-Year Forest Management Plan with the U.S. Environmental Protection Agency, for public review and comment. The FPEIS, prepared by the BIA in cooperation with the Navajo Nation, describes alternate ways to promote the protection and sustained use of forest resources and to guide the development of multi-year implementation programs for the Navajo Nation Forestry Department. A description of the project location and of the environmental issues addressed in the FPEIS follow as supplementary information.

DATES: Comments must arrive by June 12, 2000.

ADDRESSES: If you wish to comment, you may submit written comments by any one of several methods. You may mail or hand carry comments to Harold D. Russell, Regional Forester, Bureau of Indian Affairs, Navajo Regional Office, P.O. Box 1060, Gallup, New Mexico 87305. You may also comment via the Internet to HaroldRussell@bia.gov. Please submit Internet comments as an ASCII file, avoiding the use of special characters and any form of encryption. Include your name and return address in your Internet message. If you do not receive a confirmation from the system that we have received your Internet message, contact us directly at (502) 729-7228.

Comments, including names and home addresses of respondents, will be available for public review at the above during regular business hours, 8:00 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

The FPEIS is available for review at two locations: (1) The Branch of Environmental Services, Navajo Area Office, Federal Building, 301 West Hill, Gallup, New Mexico; and (2) the Branch of Forestry, Bureau of Indian Affairs, 1 mile north on Route 12, Fort Defiance, Arizona. To obtain a copy of the FPEIS, please write to the Navajo Nation Forestry Department, P.O. Box 230, Fort Defiance, Arizona 86504, or call (520) 729-4007.

FOR FURTHER INFORMATION CONTACT: Harold D. Russell, (520) 729-7228.

SUPPLEMENTARY INFORMATION: The proposed action is to adopt a ten-year management plan for the Navajo Forest. The Navajo Forest lies in the Chuska Mountains and Defiance Plateau areas of the Navajo Nation, along the Arizona-New Mexico border. The area encompasses nearly 600,000 acres.

The FPEIS presents a preferred alternative, the no action alternative and three other action alternatives. Under the preferred alternative, approximately 79,500 acres out of 253,754 acres designated as commercial timberland would be harvested over the next ten years. Individual treatment areas would be limited to 100 acres or less, and harvesting would incorporate a combination of even-aged and uneven-aged management systems designed to promote more diversity in the vegetative structure. This alternative also designates 74,735 acres as Special Management Areas (SMAs), which would be excluded from commercial timberland in order to protect critical wildlife habitat and vital watershed areas, even where these SMAs are located within the most productive areas of the forest.

Timber protection activities under this alternative include fire prevention, prescribed burns, trespass control and insect and disease control. Other activities include monitoring and mitigation, in accordance with published plans, guidelines or handbooks referenced in the FPEIS.

The no action alternative continues current levels of production—approximately 88,000 acres over the next ten years, with even-aged management and without SMA's. The three other action alternatives include: (1) No timber harvesting and no SMA's; (2) even-aged management, with a lower rate of harvest—approximately 79,000 acres over the next ten years—than the no action alternative, and with SMA's; and (3) uneven-aged management, with approximately 84,400 acres to be harvested over the next ten years and without SMA's. All of the alternatives include timber protection plus monitoring and/or mitigation measures.

The FPEIS addresses the environmental issues identified during public scoping. These include timber resources, other forest resources, water resources, biological resources, air quality, cultural resources and socio-economics.

This notice is published in accordance with section 1503.1 of the Council on Environmental Quality Regulations (40 CFR parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.

Dated: April 11, 2000.
Kevin Gover,
Assistant Secretary—Indian Affairs.

[FR Doc. 00-9397 Filed 4-13-00; 8:45 am]

BILLING CODE 4310-02-M